DEPARTMENT OF AGRICULTURE

Forest Service

Shoshone National Forest, WY, Revised Land and Resource Management Plan

AGENCY: Forest Service, USDA.

ACTION: Extension of comment period.

SUMMARY: The United States Department of Agriculture (USDA) Forest Service (USFS), Shoshone National Forest announces the extension of the comment period for the Shoshone National Forest Land Management Plan Revision Draft Environmental Impact Statement. The comment period ends November 26, 2012.

ADDRESSES: Shoshone National Forest, 808 Meadow Lane Avenue, Cody, WY 82414-4549.

FOR FURTHER INFORMATION CONTACT: Carrie Christman, Forest Planner at (307) 578-5118.

Dated: October 11, 2012.
Joseph G. Alexander,
Forest Supervisor.

[FR Doc. 2012-25726 Filed 10-18-12; 8:45 am]

BILLING CODE 3410-11-P